DEPARTMENT OF THE INTERIOR

Fish and Wildlife Service

[FWS-R1-R-2010-N146;1265-0000-10137 S3]

Camas National Wildlife Refuge, Jefferson County, ID; Comprehensive Conservation Plan and Environmental Assessment

AGENCY: Fish and Wildlife Service, Interior.

ACTION: Notice of intent; request for comments.

SUMMARY: We, the U.S. Fish and Wildlife Service (Service), intend to prepare a comprehensive conservation plan (CCP) for Camas National Wildlife Refuge (refuge) in Hamer, ID. We will also prepare an environmental assessment (EA) to evaluate the potential effects of various CCP alternatives. We are providing this notice in compliance with our CCP policy to advise the public, Federal and State agencies, and Tribes of our intentions, and to obtain suggestions and information on the scope of issues to consider during the CCP planning process.

DATES: To ensure consideration, please send your written comments by October 18, 2010. We will announce opportunities for public input in local news media throughout the CCP planning process.

ADDRESSES: Send your comments or requests for more information by any of the following methods:

E-mail: brian_wehausen@fws.gov. Include “Camas CCP/EA” in the subject line of the message.

Fax: Attn: Brian Wehausen, (208) 662-5525.

U.S. Mail: Camas National Wildlife Refuge, 2150 East 2350 North, Hamer, ID 83425.

In-Person Drop-off: You may drop off comments during regular business hours (8 a.m. to 4 p.m.) at 370 Webster St., Montpelier, ID 83254.

FOR FURTHER INFORMATION CONTACT: Brian Wehausen, (208) 662-5423.

SUPPLEMENTARY INFORMATION:

Introduction

With this notice, we initiate our process for developing a CCP for the Camas Refuge. This notice complies with our CCP policy to (1) Advise other Federal and State agencies, Tribes, and the public of our intention to conduct detailed planning on this refuge and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the National Wildlife Refuge System was established for specific purposes. We use these purposes as the foundation for developing and prioritizing the management of goals and objectives for each refuge within the National Wildlife Refuge System mission, and to determine how the public can use each refuge. The planning process is a way for us and the public to evaluate management goals and objectives that will insure the best possible approach to wildlife, plant, and habitat conservation, while providing for wildlife-dependent recreational opportunities that are compatible with each refuge's establishing purposes and the mission of the National Wildlife Refuge System.

Our CCP process provides participation opportunities for Tribal, State, and local governments; agencies; organizations; and the public. At this time we encourage input in the form of issues, concerns, ideas, and suggestions for the future management of Camas Refuge.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Camas National Wildlife Refuge

The Camas Refuge was established by President Franklin D. Roosevelt in 1937 for the purpose of serving as a refuge and breeding ground for migratory birds and other wildlife. The refuge is located 36 miles north of Idaho Falls, near the community of Hamer, Idaho. The refuge lies in the upper Snake River plain at approximately 4,800 feet in elevation.

The refuge was historically comprised of a diverse mosaic of wetland and wet meadow habitats, surrounded by an expansive sea of sagebrush, termed the “high desert.” The wetlands and wet meadows were once fed by surface water from the perennial flow of Camas Creek, and natural artesian wells which discharged groundwater and continually flooded the wetlands during the drier summer and fall months.

The upper Snake River climate and soils are favorable to agricultural uses, principally ranching and farming. In the late 1800s, large livestock and ranching operations were established in the area. The grazing lands were later divided into smaller units, and crops were cultivated for livestock feed. Agriculture further developed in the area to support the thousands of people working in mines. By the time mining diminished, railroads had begun connecting farmers and ranchers to markets far beyond rural southeast Idaho.

About half of the refuge's 10,578 acres are lakes, ponds, and marshlands, with the remainder consisting of grass/sagebrush uplands and meadows. There are 292 known species of wildlife that utilize the refuge during various periods of the year. Approximately 100 species of migratory birds nest at the refuge, and it is especially important to migrating land birds. A large number of songbirds use the refuge's cottonwood groves, which are also a significant winter roost site for bald eagles. Greater sandhill cranes gather on the refuge prior to fall migration. Sage grouse use the refuge during brood rearing. During migration, which peaks during March and April, and again in October, up to 50,000 ducks, 3,000 geese, and several hundred tundra and trumpeter swans may be present on the refuge. The refuge also hosts elk, white-tailed deer, mule deer, pronghorn, and moose.

Scoping: Preliminary Issues, Concerns, and Opportunities

We have identified preliminary issues, concerns, and opportunities that we may address in the CCP. We have briefly summarized the issues below. During public scoping, we may identify additional issues.

• Are the refuge's water quantity management and groundwater pumping capabilities adequate for maintaining nesting and migratory waterbird habitats?

• Are we protecting the refuge's water rights adequately, and how can we improve water quality for fish and wildlife?

• What actions should we take to minimize disturbance to waterbirds nesting and migrating on the refuge, as well as other wildlife?

• How the refuge can meet increasing demands for recreational opportunities and conduct quality visitor services programs in a manner that protects wildlife from disturbances?

• What is the refuge's role in managing the established nonnative cottonwood gallery forest for migratory landbirds?

• What are our options for preventing the introduction and dispersal of invasive plants and animals?

• What is the refuge's role in supporting native fish and restoring riparian habitat in Camas Creek?

• How can we maintain, manage, and restore the refuge's sagebrush, wet meadow, and upland habitats to support the long-term viability of native wildlife populations, and maximize habitat values for key wildlife species?

• How can the refuge adaptively manage habitat in response to climate change issues?

• How can we protect the refuge's cultural and historical resources?

• What is the most appropriate refuge land management strategy for providing contiguous and quality habitats for focal wildlife resources?

Public Availability of Comments

Before including your address, phone number, e-mail address, or other personal identifying information in your comment, you should be aware that your entire comment—including your personal identifying information—may be made publicly available at any time. While you can ask us in your comment to withhold your personal identifying information from public review, we cannot guarantee that we will be able to do so.

Dated: August 5, 2010.
Theresa E. Rabot,
Acting Regional Director, Region 1, Portland, Oregon.

[FR Doc. 2010-23243 Filed 9-16-10; 8:45 am]

BILLING CODE 4310-55-P